DEPARTMENT OF TRANSPORTATION

Coast Guard

[USCG 2001-8269]

Collection of Information Under Review by Office of Management and Budget (OMB): OMB Control Numbers 2115-0557, 2115-0100, and 2115-0618

AGENCY: Coast Guard, DOT.

ACTION: Request for comments.

SUMMARY: In compliance with the Paperwork Reduction Act of 1995, the Coast Guard intends to seek the approval of OMB for the renewal of three Information Collection Requests (ICRs). The ICRs comprise (1) Advance Notice of Vessels' Arrival and Departure, (2) Carriage of Bulk Solids Requiring Special Handling—46 CFR Part 148, and (3) Questionnaire on Boating Statistics. Before submitting the ICRs to OMB, the Coast Guard is requesting comments on the items described below.

DATES: Comments must reach the Coast Guard on or before April 16, 2001.

ADDRESSES: You may mail comments to the Docket Management System (DMS) [USCG 2001-8269], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for these requests. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-9330, for questions on the docket.

Request for Comments

The Coast Guard encourages interested persons to submit written comments. Persons submitting comments should include their names and addresses, identify this document [USCG 2001-8269], and give the reason for the comments. Please submit all comments and attachments in an unbound format no larger than 8½ by 11 inches, suitable for copying and electronic filing. Persons wanting acknowledgment of receipt of comments should enclose stamped self-addressed postcards or envelopes.

Information Collection Request

1. Title: Advance Notice of Vessels' Arrival and Departure.

OMB Control Number: 2115-0557.

Summary: The Ports and Waterways Safety Act authorizes the Coast Guard to require pre-arrival message or messages from any vessel entering a port or place in the United States.

Need: This information is necessary to control vessel traffic, develop contingency plans, and enforce rules. Owners and operators of vessels may apply for waivers of these rules.

Respondents: Frequency: Owners and operators of vessels .

Frequency: On occasion.

Burden Estimate: The estimated burden is 21,288 hours a year.

2. Title: Carriage of Bulk Solids Requiring Special Handling—46 CFR part 148.

OMB Control Number: 2115-0100.

Summary: The information in the application for a special permit lets the Coast Guard determine the severity of the hazard posed by the material, lets it set specific guidelines for safe carriage, or, if the material presents too great a hazard, lets it deny permission for shipping the material.

Need: The Coast Guard administers and enforces statutes and rules for the safe transport and stowage of hazardous materials, including bulk solids. Under 46 CFR part 148, the Coast Guard may issue special permits for the carriage of bulk solids requiring special handling.

Respondents: Owners and operators of vessels that carry certain bulk solids.

Frequency: On occasion.

Burden Estimate: The estimated burden is 830 hours a year.

3. Title: Questionnaire on Boating Statistics.

OMB Control Number: 2115-0618.

Summary The Office of Boating Safety of the Coast Guard may collect, analyze, and annually publish statistical information on recreational-boating accidents (46 U.S.C. 6102 (b)). Accordingly, the Coast Guard publishes an annual report, Boating Statistics (COMDTPUBP16754). This report contains statistics and other information on recreational-boating accidents. The statistics derive from data on Recreational Boating Accident Reports submitted by the States, the District of Columbia, and the five U.S. Territories.

Need: The purpose of this questionnaire is to determine our customers' needs for information and measure their satisfaction with Boating Statistics. The results of the questionnaire will help us improve the quality (customer satisfaction) of the annual report. A questionnaire is the most accurate and practical way of obtaining this information with the least burden on the respondent and on the Federal Government.

Respondents: Recreational boaters.

Frequency: Annually.

Burden Estimate: The estimated burden is 320 hours a year.

Dated: January 11, 2001.
V.S. Crea,
Director of Information and Technology.

[FR Doc. 01-3898 Filed 2-15-01; 8:45 am]

BILLING CODE 4910-15-U